FEDERAL ELECTION COMMISSION

Sunshine Act Meeting

AGENCY: Federal Election Commission.

Previously announced date and time: Thursday, April 13, 2000; 10 a.m., meeting open to the public.

The following items were added to the agenda:

Final Audit Report on Michigan Republican State Committee (MRSC)

Financial Control and Compliance Manual for Presidential Primary Candidates Receiving Public Financing—Proposed 2000 Edition

The following item was withdrawn from the agenda:

Revisions to Instructions for Forms 3 and 3X

DATE & TIME: Wednesday, April 26, 2000 at 10 a.m.

PLACE: 999 E Street, NW, Washington, DC.

STATUS: This meeting will be closed to the public.

ITEMS TO BE DISCUSSED: Compliance matters pursuant to 2 U.S.C. § 437g

Audits conducted pursuant to 2 U.S.C. § 437g, § 438(b), and Title 26, U.S.C.

Matters concerning participation in civil actions or proceedings or arbitration

Internal personnel rules and procedures or matters affecting a particular employee

DATE & TIME: Thursday, April 27, 2000 at 10 a.m.

PLACE: 999 E Street, NW, Washington, DC (Ninth Floor).

STATUS: This meeting will be open to the public.

ITEMS TO BE DISCUSSED: Correction and Approval of Minutes

Draft Advisory Opinion 2000-05: The Oneida Nation of New York by counsel, Markham C. Erickson

Notice of Proposed Rulemaking: Election Cycle Reporting

Administrative Matters

PERSON TO CONTACT FOR INFORMATION: Mr. Ron Harris, Press Officer, Telephone: (202) 694-1220.

Mary W. Dove,
Acting Secretary of the Commission.

[FR Doc. 00-10023 Filed 4-18-00; 3:18 pm]

BILLING CODE 6715-01-M